DEPARTMENT OF TRANSPORTATION

Federal Aviation Administration

14 CFR Part 39

[Docket No. FAA-2006-25326; Directorate Identifier 2006-NM-081-AD]

RIN 2120-AA64

Airworthiness Directives; Boeing Model 757-200 and -300 Series Airplanes

AGENCY: Federal Aviation Administration (FAA), Department of Transportation (DOT).

ACTION: Notice of proposed rulemaking (NPRM).

SUMMARY: The FAA proposes to adopt a new airworthiness directive (AD) for certain Boeing Model 757-200 and -300 series airplanes. This proposed AD would require changes to existing wiring; installation of new circuit breakers, relays, relay connectors, and wiring; and replacement of certain circuit breakers with higher-rated circuit breakers. For certain airplanes, this proposed AD also requires modification of wiring of the control module assembly for the electrical systems. This proposed AD results from an in-flight entertainment (IFE) systems review. We are proposing this AD to ensure that the flightcrew is able to turn off electrical power to the IFE system through utility bus switches in the flight compartment. The flightcrew's inability to turn off power to the IFE system during a non-normal or emergency situation could result in the inability to control smoke or fumes in the airplane flight deck or cabin.

DATES: We must receive comments on this proposed AD by August 28, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207, for the service information identified in this proposed AD.

FOR FURTHER INFORMATION CONTACT: Natalie Phan-Tran, Aerospace Engineer, Systems and Equipment Branch, ANM-130L, FAA, Los Angeles Aircraft Certification Office, 3960 Paramount Boulevard, Lakewood, California 90712-4137; telephone (562) 627-5343; fax (562) 627-5210.

SUPPLEMENTARY INFORMATION:

Comments Invited

We invite you to submit any relevant written data, views, or arguments regarding this proposed AD. Send your comments to an address listed in the ADDRESSES section. Include the docket number “FAA-2006-25326; Directorate Identifier 2006-NM-081-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Federal Aviation Administration (FAA) completed a review of in-flight entertainment (IFE) systems certified by supplemental type certificate (STC) and installed on transport category airplanes. The review focused on the interface between the IFE system and airplane electrical system, with the objective of determining if any unsafe conditions exist with regard to the interface. STCs issued between 1992 and 2000 were considered for the review.

The type of IFE systems considered for review were those that contain video monitors (cathode ray tubes or liquid crystal displays; either hanging above the aisle or mounted on individual seat backs or seat trays), or complex circuitry (i.e., power supplies, electronic distribution boxes, extensive wire routing, relatively high power consumption, multiple layers of circuit protection, etc.). In addition, in-seat power supply systems that provide power to more than 20 percent of the total passenger seats were also considered for the review. The types of IFE systems not considered for review include systems that provide only audio signals to each passenger seat, ordinary in-flight telephone systems (e.g., one telephone handset per group of seats or bulkhead-mounted telephones), systems that have only a video monitor on the forward bulkhead(s) (or a projection system) to provide passengers with basic airplane and flight information, and in-seat power supply systems that provide power to less than 20 percent of the total passenger seats.

Items considered during the review include the following:

• Can the electrical bus(es) supplying power to the IFE system be de-energized when necessary without removing power from systems that may be required for continued safe flight and landing?

• Can IFE system power be removed when required without pulling IFE system circuit breakers (i.e., is there a switch (dedicated to the IFE system or a combination of loads) located in the flight deck or cabin that can be used to remove IFE power?)?

• If the IFE system requires changes to flightcrew procedures, has the airplane flight manual (AFM) been properly amended?

• If the IFE system requires changes to cabin crew procedures, have they been properly amended?

• Does the IFE system require periodic or special maintenance?

In all, we reviewed approximately 180 IFE systems approved by STC. The review results indicate that potential unsafe conditions exist on some IFE systems installed on various transport category airplanes. These conditions can be summarized as:

• Electrical bus(es) supplying power to the IFE system cannot be de-energized when necessary without removing power from systems that may be required for continued safe flight and landing.

• Power cannot be removed from the IFE system when required without pulling IFE system circuit breakers (i.e., there is no switch dedicated to the IFE system or combination of systems for the purpose of removing power).

• Installation of the IFE system has affected crew (flightcrew and/or cabin crew) procedures, but the procedures have not been properly revised.

The IFE system on the Model 757-200 and -300 series airplanes is connected to an electrical bus that cannot be deactivated without also removing power from airplane systems necessary for safe flight and landing. There is no other means to remove power from the IFE system. This condition, if not corrected, could result in the flightcrew's inability to turn off electrical power to the IFE system through utility bus switches in the flight compartment during a non-normal or emergency situation, and consequent inability to control smoke or fumes in the airplane flight deck or cabin.

Other Relevant Rulemaking

We have issued numerous ADs previously that address unsafe conditions and require corrective actions similar to those that would be required by the proposed AD. Those ADs and the applicable airplanes and STC number are identified in the following table.

Airplanes | STC No. | AD reference
Airbus Model A340-211 airplanes | ST09092AC-D | AD 2001-18-01, amendment 39-12427 (66 FR 46939, September 10, 2001).
Boeing Model 737-200 series airplanes | ST00516AT | AD 2004-05-27, amendment 39-13522 (69 FR 12063, March 15, 2004).
Boeing Model 737-300 series airplanes | ST00171SE | AD 2001-14-10, amendment 39-12321 (66 FR 36455, July 12, 2001).
Boeing Model 737-700 series airplanes | ST09100AC-D, ST09104AC-D, ST09105AC-D, ST09106AC-D | AD 2001-14-12, amendment 39-12323 (66 FR 36452, July 12, 2001).
Boeing Model 737-600, -700, -800 series airplanes and Model 757-200 and -300 series airplanes | Not applicable | AD 2003-26-12, amendment 39-13411 (69 FR 861, January 7, 2004).
Boeing Model 747-100 and -200 series airplanes | SA8622SW | AD 2001-14-11, amendment 39-12322 (66 FR 36453, July 12, 2001).
Boeing Model 747-100 and -200 series airplanes | ST00196SE | AD 2001-16-19, amendment 39-12388 (66 FR 43068, August 17, 2001).
Boeing Model 747-400 series airplanes | SA8843SW | AD 2001-14-15, amendment 39-12326 (66 FR 36447, July 12, 2001).
Boeing Model 747SP series airplanes | ST09097AC-D | AD 2001-14-14, amendment 39-12325 (66 FR 36449, July 12, 2001).
Boeing Model 757-200 series airplanes | SA1727GL | AD 2001-14-01, amendment 39-12311 (66 FR 36149, July 11, 2001).
Boeing Model 767-200 series airplanes | SA4998NM | AD 2001-16-21, amendment 39-12390 (66 FR 43072, August 17, 2001).
Boeing Model 767-200 series airplanes | SA5134NM | AD 2001-16-20, amendment 39-12389 (66 FR 43066, August 17, 2001).
Boeing Model 767-200 series airplanes | ST09022AC-D | AD 2001-14-13, amendment 39-12324 (66 FR 36450, July 12, 2001).
Boeing Model 767-300 series airplanes | SA5765NM, SA5978NM | AD 2001-16-17, amendment 39-12386 (66 FR 42937, August 16, 2001).
Boeing Model 767-300 series airplanes | SA7019NM-D | AD 2001-18-08, amendment 39-12434 (66 FR 46517, September 6, 2001).
Boeing Model 767-300 series airplanes | ST00118SE | AD 2001-14-04, amendment 39-12314 (66 FR 36699, July 13, 2001).
Boeing Model 767-300 series airplanes | ST00157SE | AD 2001-16-18, amendment 39-12387 (66 FR 43070, August 17, 2001).
Boeing Model 767-300 series airplanes | ST01869AT-D | AD 2002-26-14, amendment 39-13002 (68 FR 1525, January 13, 2003).
Boeing Model 767-300 series airplanes | ST01783AT-D | AD 2003-07-15, amendment 39-13111 (68 FR 18535, April 16, 2003).
Boeing Model 767-200 and -300 series airplanes | Not applicable | AD 2003-14-10, amendment 39-13229 (68 FR 42583, July 18, 2003; corrected at 68 FR 44385, July 28, 2003).
McDonnell Douglas Model DC-9-51 and DC-9-83 airplanes | SA8026NM | AD 2001-14-02, amendment 39-12312 (66 FR 36456, July 12, 2001).
McDonnell Douglas Model DC-10-30 airplanes | SA8452SW | AD 2001-16-22, amendment 39-12391 (66 FR 43074, August 17, 2001).
McDonnell Douglas Model DC-10-30 airplanes | ST00054SE | AD 2001-14-03, amendment 39-12313 (66 FR 36150, July 11, 2001) (Inadvertently referenced by the Federal Register as AD 2001-13-03, in the Agency Docket Number heading, on page 36150, in the third column).
McDonnell Douglas Model MD-11 airplanes | ST00236LA-D (Santa Barbara Aerospace) | AD 99-20-08, amendment 39-11338 (64 FR 52221, September 28, 1999).

Relevant Service Information

We have reviewed Boeing Service Bulletin 757-24-0093, dated August 14, 2003 (for Model 757-200 series airplanes); and Boeing Service Bulletin 757-24-0094, dated April 17, 2003 (for Model 757-300 series airplanes). The service bulletins describe the following procedures:

• For all airplanes, changing the wiring at the P5 and P11 panel assemblies in the flight compartment, at the P36 panel assembly in the forward cargo compartment, and at the P37 and P70 panel assemblies in the main electronics compartment.

• For all airplanes, installing a new relay at the P36 panel assembly in the forward cargo compartment and at the P37 panel assembly in the main electronics compartment.

• For certain Model 757-200 series airplanes, installing new circuit breakers C3090 and C3089 at the P37 and P70 panel assemblies, respectively, in the main electronics compartment.

• For certain Model 757-200 series airplanes and certain Model 757-300 series airplanes, replacing circuit breakers C311 and C315 at the P31 and P32 panel assemblies, respectively, in the main electronics compartment with higher-rated circuit breakers.

• For all Model 757-300 series airplanes, installing a relay connector at the P37 panel assembly and at the P36 panel assembly.

• For certain Model 757-300 series airplanes, installing new wires between the P5 panel assembly in the flight compartment and the P36 and P37 panel assemblies in the main electronics compartment.

Accomplishing the actions specified in the service information is intended to adequately address the unsafe condition.

Concurrent Service Information

For certain Model 757-200 series airplanes, Boeing Service Bulletin 757-24-0093 also recommends concurrent accomplishment of Boeing Component Service Bulletin 233N3209-24-04, Revision 1, dated August 14, 2003. Boeing Component Service Bulletin 233N3209-24-04 describes procedures for modifying the wiring of the control module assembly for the electrical systems. The modification includes installing new wiring and changing the existing wiring of the control module assembly.

FAA's Determination and Requirements of the Proposed AD

We have evaluated all pertinent information and identified an unsafe condition that is likely to exist or develop on other airplanes of this same type design. For this reason, we are proposing this AD, which would require accomplishing the actions specified in the service information described previously.

Costs of Compliance

There are about 548 airplanes of the affected design in the worldwide fleet. This proposed AD would affect about 332 Model 757-200 and 7-300 airplanes of U.S. registry. The following table provides the estimated costs, at an average labor rate of $80 per hour, for U.S. operators to comply with this proposed AD. The estimated work hours and cost of parts in the following table depend on the relay and wiring configuration of an airplane.

Estimated Costs
Model | Action | Work hours | Parts | Cost per airplane | Number of U.S.-registered airplanes | Fleet cost
757-200 series airplanes | Installation | 38-46 | $2,781-$5,917 | $5,821-$9,597 | 318 | $1,851,078-$3,051,846
| Concurrent modification | 3 | 73-90 | 313-330 | 318 | 99,534-104,940
757-300 series airplanes | Installation | 22 | 2,080-4,632 | 3,840-6,392 | 14 | 53,760-89,488

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2006-25326; Directorate Identifier 2006-NM-081-AD.

Comments Due Date

(a) The FAA must receive comments on this AD action by August 28, 2006.

Affected ADs

(b) None.

Applicability

(c) This AD applies to the Boeing airplanes identified in paragraphs (c)(1) and (c)(2) of this AD, certificated in any category.

(1) Model 757-200 series airplanes, as identified in Boeing Service Bulletin 757-24-0093, dated August 14, 2003.

(2) Model 757-300 series airplanes, as identified in Boeing Service Bulletin 757-24-0094, dated April 17, 2003.

Unsafe Condition

(d) This AD results from an in-flight entertainment (IFE) systems review. We are issuing this AD to ensure that the flightcrew is able to turn off electrical power to the IFE system through utility bus switches in the flight compartment. The flightcrew's inability to turn off power to the IFE system during a non-normal or emergency situation could result in the inability to control smoke or fumes in the airplane flight deck or cabin.

Compliance

(e) You are responsible for having the actions required by this AD performed within the compliance times specified, unless the actions have already been done.

Installation of Circuit Breakers, Relays, and Wiring

(f) Within 60 months after the effective date of this AD, do the applicable actions specified in paragraphs (f)(1) through (f)(6) of this AD, in accordance with the Accomplishment Instructions of Boeing Service Bulletin 757-24-0093, dated August 14, 2003 (for Model 757-200 series airplanes); or Boeing Service Bulletin 757-24-0094, dated April 17, 2003 (Model 757-300 series airplanes), as applicable.

(1) For all airplanes: Change the wiring at the P5 and P11 panel assemblies in the flight compartment, at the P36 panel assembly in the forward cargo compartment, and at the P37 and P70 panel assemblies in the main electronics compartment. Install a new relay and relay connector, if applicable, at the P36 panel assembly and at the P37 panel assembly.

(2) For Model 757-200 series airplanes identified as Group 1 in Boeing Service Bulletin 757-24-0093, dated August 14, 2003: Install new circuit breakers C3090 and C3089 at the P37 and P70 panel assemblies, respectively, in the main electronics compartment.

(3) For Model 757-200 series airplanes identified as Groups 21 and 22 in Boeing Service Bulletin 757-24-0093, dated August 14, 2003: Replace circuit breaker C311 at the P31 panel assembly in the main electronics compartment with a higher-rated circuit breaker.

(4) For Model 757-200 series airplanes identified as Groups 1 through 20 inclusive and 23 through 40 inclusive in Boeing Service Bulletin 757-24-0093, dated August 14, 2003: Replace circuit breakers C311 and C315 at the P31 and P32 panel assemblies, respectively, in the main electronics compartment with higher-rated circuit breakers.

(5) For Model 757-300 series airplanes identified as Groups 1 and 4 in Boeing Service Bulletin 757-24-0094, dated April 17, 2003: Replace circuit breakers C311 and C315 at the P31 and P32 panel assemblies, respectively, in the main electronics compartment with higher-rated circuit breakers.

(6) For Model 757-300 series airplanes identified as Groups 1, 2, and 3 in Boeing Service Bulletin 757-24-0094, dated April 17, 2003: Install new wires between the P5 panel assembly in the flight compartment and the P36 and P37 panel assemblies in the main electronics compartment.

Concurrent Requirement for Certain Airplanes

(g) For the Model 757-200 series airplanes identified as Groups 8, 9, 12, 15, 20, 21 through 32 inclusive, and 34 through 40 inclusive in Boeing Service Bulletin 757-24-0093, dated August 14, 2003: Prior to or concurrently with accomplishing the actions specified in paragraph (f) of this AD, modify the wiring of the control module assembly for the electrical systems, by accomplishing all of the actions specified in the Accomplishment Instructions of Boeing Component Service Bulletin 233N3209-24-04, Revision 1, dated August 14, 2003, as applicable.

Credit for Accomplishment of Previous Service Bulletin

(h) Modification of the control module assembly done before the effective date of this AD in accordance with Boeing Component Service Bulletin 233N3209-24-04, dated April 10, 2003, is acceptable for compliance with the requirements of paragraph (g) of this AD.

Alternative Methods of Compliance (AMOCs)

(i)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on July 3, 2006.
Kalene C. Yanamura,
Acting Manager, Transport Airplane Directorate, Aircraft Certification Service.

[FR Doc. E6-11020 Filed 7-12-06; 8:45 am]

BILLING CODE 4910-13-P